DEPARTMENT OF COMMERCE

Foreign-Trade Zones Board

(Docket 41-2006)

Foreign-Trade Zone 70 -- Detroit, Michigan, Application for Expansion

An application has been submitted to the Foreign-Trade Zones (FTZ) Board (the Board) by the Greater Detroit Foreign Trade Zone, Inc., grantee of FTZ 70, requesting authority to expand its zone to include a site located in the Townships of Ypsilanti and Van Buren within the Detroit Customs port of entry. The application was submitted pursuant to the provisions of the Foreign-Trade Zones Act, as amended (19 U.S.C. 81a-81u), and the regulations of the Board (15 CFR part 400). It was formally filed on October 16, 2006.

FTZ 70 was approved on July 21, 1981 (Board Order 176, 46 FR 38941, 7/30/81), reorganized on April 15, 1985 (Board Order 299, 50 FR 16119, 4/24/85), and expanded on November 27, 1989 (Board Order 453, 54 FR 50258, 12/5/89), on April 20, 1990 (Board Order 471, 55 FR 17775, 4/27/90), on February 20, 1996 (Board Order 802, 61 FR 7237, 2/27/96), on August 26, 1996 (Board Order 843, 61 FR 46763, 9/5/96), on April 5, 2001 (Board Order 1162, 66 FR 19423, 4/16/01), and on May 23, 2005 (Board Order 1395, 70 FR 32570, 6/3/05).

The general-purpose zone currently consists of eighteen sites in the greater Detroit area: Site 1 (5 acres) -- located at 4485 West Jefferson Avenue, Detroit; Site 2 (45 acres) -- Nicholson Terminal and Dock Company's port terminal and warehouse facility located along the Detroit River on Great Lakes Avenue in Ecorse; Site 3 (72 acres, 2 parcels) -- located within the Metro Airport Center Industrial Park located west of Wayne Road between Grant Road and the Norfolk Southern Railroad Line and located at 6850 Middlebelt Road, Romulus; Site 4 (300,000 sq. ft.) -- located within the Westside Industrial Park, Detroit; Site 5 (22 acres, 3 parcels) -- located within the Lynch Road Industrial Park Condominium at 6490 Lynch Road, Detroit; at 6307 West Fort Street, Detroit; and, at 214 East Maple Road, Troy; Site 6 (32 acres, 3 parcels) -- located at two parcels between Clark and Swain Streets near the Detroit River; at 36501 Van Born Road in Romulus; and, at 308 Antoine Street in Wyandotte (expires 7/1/2007); Site 7 (3.45 acres) -- located at 36501 Van Born Road, Romulus; Site 8 (380,803 sq. ft.) -- located at 17423 West Jefferson Avenue, Riverview; Site 9 (46,560 sq. ft.) -- Trans Overseas Corporation's facility, 28000 Goddard Road, Romulus; Site 10 (308,596 sq. ft.) -- Central Detroit Warehouse, 18765 Seaway Drive, Melvindale; Site 11 (31,675 sq. ft.) -- located at 14933 Keel Street, Plymouth; Site 12 (86 acres) -- Detroit Metropolitan Wayne County Airport's fuel system; Site 13 (47,000 sq. ft.) -- located at 13542 Helen Street, Detroit; Site 14 (37 acres, 3 parcels) -- located at Ambassador Bridge adjacent to Interstates 75 and 96 spanning the Detroit River; at 3333 West Fort Street, Detroit; and, at 2301 West Lafayette Street, Detroit; Site 15 (28 acres) -- Buske Lines Logistics complex, 17300 Allen Road, Brownstown Township; Site 15A (114,000 sq. ft.) -- located at 12240 Oakland Park Boulevard, Building 6, Highland Park; Site 16 (108,321 sq. ft.) -- located at 8625 Inkster Road, Taylor; Site 17 (101,404 sq. ft.) -- located at 26980 Trolley Drive, Taylor; and, Site 18 (52 acres) -- located at 7111 Crabb Road, Temperance (expires 6/1/2010).

The applicant is now requesting authority to expand the general-purpose zone to include an additional site at the Willow Run Airport (Proposed Site 19 - 2,340 acres) located at 801 Willow Run Airport, Ypsilanti. The site is owned by Wayne County and includes airport jet fuel storage/distribution facilities. No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is December 22, 2006. Rebuttal comments in response to material submitted during the foregoing period may be submitted during the subsequent 15-day period to January 8, 2007.

A copy of the application and accompanying exhibits will be available for public inspection at each of the following locations: U.S. Department of Commerce, Export Assistance Center, 8109 East Jefferson Avenue, Suite 110, Detroit, MI 48213; and, Office of the Executive Secretary, Foreign-Trade Zones Board, Room 1115, U.S. Department of Commerce, 1401 Constitution Avenue, NW, Washington, DC 20230.

Dated: October 16, 2006.
Pierre V. Duy,
Acting Executive Secretary.

[FR Doc. E6-17716 Filed 10-20-06; 8:45 am]

BILLING CODE 3510-DS-S